DEPARTMENT OF HEALTH AND HUMAN SERVICES

Administration for Children and Families

Expedited Review and Public Comment: Monitoring and Compliance for Office of Refugee Resettlement Care Provider Facilities (OMB #: 0970-0564)

AGENCY: Office of Refugee Resettlement, Administration for Children and Families, Department of Health and Human Services.

ACTION: Request for public comments.

SUMMARY: The Office of Refugee Resettlement (ORR), Administration for Children and Families (ACF), U.S. Department of Health and Human Services, is requesting expedited review of an information collection request from the Office of Management and Budget (OMB). This information collection will allow the ORR Unaccompanied Children (UC) Program to enhance monitoring efforts at care provider facilities that are not licensed by the state. A separate notice will be published inviting public comments on the proposed collection.

SUPPLEMENTARY INFORMATION:

Description: ACF is requesting emergency review and approval of this information collection by OMB, as authorized under 44 U.S.C. 3507 (subsection j). The proposed forms are necessary to allow the ORR UC Program to enhance monitoring efforts at care provider facilities that are not licensed by the state. The information collected is essential to the mission of the agency and an unanticipated event occurred that could reasonably result in public harm if normal Paperwork Reduction Act (PRA) clearance procedures are followed. A recent proclamation in Texas (Proclamation by the Governor of the State of Texas, May 31, 2021) and recent emergency rule in Florida (Emergency Rule 65CER21-3, December 10, 2021) has resulted in a large number of ORR facilities no longer being licensed by the states. To help mitigate the issue, ORR plans to perform quarterly health and safety monitoring visits to Texas and Florida programs. The quarterly monitoring visits are in addition to and do not take the place of ORR's existing monitoring activities as described in UC Policy Guide Section 5.5. In order to implement quarterly health and safety site visits for unlicensed programs, ORR is seeking emergency approval to begin use of instruments related to this effort as soon as possible. ORR plans to make minor edits to 15 existing forms in this information collection to create the following alternate versions:

• Unlicensed Facility Site Visit Guide (Form M-7A-UF)

• Unlicensed Facility Personnel File Checklist (Form M-10A-UF)

• Unlicensed Facility Program Director Questionnaire (Form M-11A-UF)

• Unlicensed Facility Clinician Questionnaire (Form M-11C-UF)

• Unlicensed Facility Case Manager Questionnaire (Form M-11E-UF)

• Unlicensed Facility Education Staff Questionnaire (Form M-11G-UF)

• Unlicensed Facility Medical Coordinator Questionnaire (Form M-11I-UF)

• Unlicensed Facility Youth Care Worker Questionnaire (Form M-11J-UF)

• Unlicensed Facility Prevention of Sexual Abuse Compliance Manager Staff Questionnaire (Form M-11K-UF)

• Unlicensed Facility Interpreter Questionnaire (Form M-11P-UK)

• Unlicensed Facility UC Questionnaire—Ages 6-12 Years Old (Forms M-12A-UF and M-12As-UF)

• Unlicensed Facility UC Questionnaire—Ages 13 and Older (Forms M-12B-UF and M-12Bs-UF)

• Unlicensed Facility UC Questionnaire—Ages 5 and Under (Form M-12E-UF and M-12Es-UF)

• Unlicensed Facility Legal Service Provider Questionnaire (Form M-13C-UF)

• Unlicensed Facility Case Coordinator Questionnaire (Form M-13E-UF)

Additionally, ORR plans to add the below form (currently approved under OMB #0970-0558) to this information collection as well as the alternate version listed above to facilitate the quarterly monitoring on unlicensed programs.

• Interpreter Questionnaire (Form M-11P)

Finally, ORR plans to use the following forms with more than nine respondents. These were previously approved by OMB but were removed from the information collection due to the number of respondents.

• Unlicensed Facility Monitoring Notes (Form M-6A-UF)

• Unlicensed Facility UC Case File Checklist (Form M-7A-UF)

• Unlicensed Facility Onsite Monitoring Checklist (M-9A-UF)

At this time, ACF is requesting that OMB grant a 180-day approval for this request under procedures for expedited processing. A request for review under normal procedures will be submitted within 180 days of the approval for this request. ACF will invite public comment through this process. The first comment period, which invites comments over a 60-day period, begins concurrently with the publication of this notice (see notice titled Proposed Information Collection Activity; Monitoring and Compliance for Office of Refugee Resettlement Care Provider Facilities (Office of Management and Budget #: 0970-0564) in this issue of the Federal Register).

Respondents: ORR grantee and contractor staff; and UC.

Annual Burden Estimates:

The following burden estimates are specific to the forms described above and the subject of this request for emergency approval. For information about all currently approved forms under this OMB number, see: https://www.reginfo.gov/public/do/PRAViewICR?ref_nbr=202108-0970-016.

Estimated Burden Hours for Respondents
Information collection title | Annual number of respondents | Annual number of responses per respondent | Average burden hours per response | Annual total burden hours
Unlicensed Facility Site Visit Guide (Form M-7A-UF) | 56 | 4.0 | 1.00 | 224.00
Unlicensed Facility UC Case File Checklist (Form M-8A-UF) | 56 | 20.0 | 1.00 | 1,120.00
Interpreter Questionnaire (Form M-11P) | 115 | 2.0 | 0.50 | 115.00
Unlicensed Facility Program Staff Questionnaires (Forms M-11A-UF to M-11K-UF) | 56 | 32.0 | 1.00 | 1,792.00
Unlicensed Facility Interpreter Questionnaire (Form M-11P-UF) | 56 | 4.0 | 0.50 | 112.00
Unlicensed Facility UC Questionnaires (Forms M-12A-UF to M-12B-UF & M-12E-UF) | 1,120 | 1.0 | 0.50 | 560.00
Unlicensed Facility Legal Service Provider Questionnaire (Form M-13C-UF) | 224 | 1.0 | 0.75 | 168.00
Unlicensed Facility Case Coordinator Questionnaire (Form M-13E-UF) | 224 | 1.0 | 1.00 | 224.00
Estimated Annual Burden Hours Total: |  |  |  | 4,315.00

Estimated Burden Hours for Contractor Monitors
Information collection title | Annual number of respondents | Annual number of responses per respondent | Average burden hours per response | Annual total burden hours
Unlicensed Facility Monitoring Notes (Form M-6A-UF) | 18 | 12.0 | 12.00 | 2,592.00
Unlicensed Facility Site Visit Guide (Form M-7A-UF) | 18 | 12.0 | 29.00 | 6,264.00
Unlicensed Facility UC Case File Checklist (Form M-8A-UF) | 18 | 62.0 | 6.00 | 6,696.00
Unlicensed Facility On-Site Monitoring Checklist (Form M-9A-UF) | 18 | 12.0 | 4.00 | 864.00
Unlicensed Facility Personnel File Checklist (Form M-10A-UF) | 18 | 50.0 | 1.00 | 900.00
Unlicensed Facility Program Staff Questionnaires (Forms M-11A-UF to M-11K-UF) | 18 | 100.0 | 1.00 | 1,800.00
Unlicensed Facility Interpreter Questionnaire (Form M-11P-UF) | 18 | 12.0 | 0.50 | 108.00
Unlicensed Facility UC Questionnaires (Forms M-12A-UF to M-12B-UF & M-12E-UF) | 18 | 62.0 | 0.50 | 558.00
Unlicensed Facility Legal Service Provider Questionnaire (Form M-13C-UF) | 18 | 12.0 | 0.75 | 162.00
Unlicensed Facility Case Coordinator Questionnaire (Form M-13E-UF) | 18 | 12.0 | 1.00 | 216.00
Estimated Annual Burden Hours Total: |  |  |  | 20,160.00

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication. Comments will be considered and any necessary updates to materials made prior to, and responses provided in, the submission to OMB that will follow this public comment period.

Authority: 6 U.S.C. 279; 8 U.S.C. 1232; Flores v. Reno Settlement Agreement, No. CV85-4544-RJK (C.D. Cal. 1996); 45 CFR part 411.

Mary B. Jones,
ACF/OPRE Certifying Officer.

[FR Doc. 2022-23341 Filed 10-25-22; 8:45 am]

BILLING CODE 4184-45-P